DEPARTMENT OF ENERGY

Federal Energy Regulatory Commission

Combined Notice of Filings #1

Take notice that the Commission received the following electric corporate filings:

Docket Numbers: EC23-21-000.

Applicants: Wisconsin Public Service Corporation, Madison Gas and Electric Company, Red Barn Energy, LLC.

Description: Joint Application for Authorization Under Section 203 of the Federal Power Act of Wisconsin Public Service Corporation, et al.

Filed Date: 11/2/22.

Accession Number: 20221102-5156.

Comment Date: 5 p.m. ET 12/19/22.

Docket Numbers: EC23-22-000.

Applicants: Patriot Hydro, LLC, Gauley River Power Partners, LLC, Central Rivers Power Super Holdings Holdco, LLC.

Description: Joint Application for Authorization Under Section 203 of the Federal Power Act of Central Rivers Power Super Holdings Holdco, LLC, et al.

Filed Date: 11/2/22.

Accession Number: 20221102-5191.

Comment Date: 5 p.m. ET 11/23/22.

Take notice that the Commission received the following electric rate filings:

Docket Numbers: ER10-1852-071; ER10-1890-024; ER10-1951-048; ER10-1962-024; ER11-2160-024; ER11-3417-014; ER11-4462-070; ER11-4677-023; ER11-4678-024; ER12-199-021; ER12-631-025; ER12-676-019; ER12-2444-022; ER13-1991-025; ER13-1992-025; ER13-2112-019; ER15-1016-016; ER15-1375-018; ER15-1418-018; ER15-1883-018; ER15-2243-014; ER15-2477-017; ER16-90-017; ER16-91-017; ER16-632-017; ER16-2443-013; ER17-582-016; ER17-583-016; ER17-838-045; ER17-2340-014; ER19-1076-009; ER20-819-011; ER20-2695-009; ER21-1580-006; ER21-1813-008; ER21-1814-008; ER21-2294-006; ER22-1370-005; ER22-2552-002; ER22-2824-002; ER21-2304-006.

Applicants: Arlington Solar, LLC, Yellow Pine Solar, LLC, Java Solar, LLC, Sunlight Storage, LLC, Arlington Energy Center II, LLC, Yellow Pine Energy Center II, LLC, Yellow Pine Energy Center I, LLC, Sky River Wind, LLC, Mohave County Wind Farm LLC ,Blythe Solar III, LLC, Windstar Energy, LLC, Golden Hills North Wind, LLC, NextEra Energy Marketing, LLC, Whitney Point Solar, LLC, Westside Solar, LLC, NextEra Blythe Solar Energy Center, LLC, Blythe Solar II, LLC, Blythe Solar 110, LLC, Golden Hills Interconnection, LLC, Golden Hills Wind, LLC, Silver State Solar Power South, LLC, Adelanto Solar, LLC, Adelanto Solar II, LLC, McCoy Solar, LLC, Shafter Solar, LLC, Genesis Solar, LLC, Desert Sunlight 300, LLC, Desert Sunlight 250, LLC, North Sky River Energy, LLC, Perrin Ranch Wind, LLC, Windpower Partners 1993, LLC, Coram California Development, L.P., Vasco Winds, LLC, NextEra Energy Montezuma II Wind, LLC, NEPM II, LLC, Alta Wind VIII, LLC, FPL Energy Montezuma Wind, LLC, High Winds, LLC, NextEra Energy Services Massachusetts, LLC, FPL Energy Green Power Wind, LLC, Florida Power & Light Company.

Description: Notice of Change in Status of Florida Power & Light Company, et al.

Filed Date: 10/31/22.

Accession Number: 20221031-5403.

Comment Date: 5 p.m. ET 11/21/22.

Docket Numbers: ER23-350-000.

Applicants: Morongo Transmission LLC.

Description: § 205(d) Rate Filing: Annual TRBAA Filing to be effective 1/1/2023.

Filed Date: 11/2/22.

Accession Number: 20221102-5122.

Comment Date: 5 p.m. ET 11/23/22.

Docket Numbers: ER23-351-000.

Applicants: Midcontinent Independent System Operator, Inc.

Description: § 205(d) Rate Filing: 2022-11-02_SA, 3425 Entergy Arkansas-West Memphis Solar 1st Rev GIA (J934) to be effective 10/20/2022.

Filed Date: 11/2/22.

Accession Number: 20221102-5134.

Comment Date: 5 p.m. ET 11/23/22.

Docket Numbers: ER23-352-000.

Applicants: Blue Sky West, LLC.

Description: § 205(d) Rate Filing: Tariff Revisions to be effective 11/3/2022.

Filed Date: 11/2/22.

Accession Number: 20221102-5146.

Comment Date: 5 p.m. ET 11/23/22.

Docket Numbers: ER23-353-000.

Applicants: Evergreen Wind Power II, LLC.

Description: § 205(d) Rate Filing: Tariff Revisions to be effective 11/3/2022.

Filed Date: 11/2/22.

Accession Number: 20221102-5148.

Comment Date: 5 p.m. ET 11/23/22.

Docket Numbers: ER23-354-000.

Applicants: Hancock Wind, LLC.

Description: § 205(d) Rate Filing: Tariff Revisions to be effective 11/3/2022.

Filed Date: 11/2/22.

Accession Number: 20221102-5149.

Comment Date: 5 p.m. ET 11/23/22.

Docket Numbers: ER23-355-000.

Applicants: Mulberry Farm, LLC.

Description: § 205(d) Rate Filing: Tariff Revisions to be effective 11/3/2022.

Filed Date: 11/2/22.

Accession Number: 20221102-5152.

Comment Date: 5 p.m. ET 11/23/22.

Docket Numbers: ER23-356-000.

Applicants: Selmer Farm, LLC.

Description: § 205(d) Rate Filing: Tariff Revisions to be effective 11/3/2022.

Filed Date: 11/2/22.

Accession Number: 20221102-5154.

Comment Date: 5 p.m. ET 11/23/22.

Docket Numbers: ER23-357-000.

Applicants: Broad River Energy LLC.

Description: § 205(d) Rate Filing: Tariff Revisions to be effective 11/3/2022.

Filed Date: 11/2/22.

Accession Number: 20221102-5159.

Comment Date: 5 p.m. ET 11/23/22.

Docket Numbers: ER23-358-000.

Applicants: KMC Thermo, LLC.

Description: § 205(d) Rate Filing: Tariff Revisions to be effective 11/3/2022.

Filed Date: 11/2/22.

Accession Number: 20221102-5160.

Comment Date: 5 p.m. ET 11/23/22.

Docket Numbers: ER23-359-000.

Applicants: Townsite Solar, LLC.

Description: Townsite Solar, LLC submits 2022 WECC Soft Price Cap Justification Filing.

Filed Date: 10/31/22.

Accession Number: 20221031-5407.

Comment Date: 5 p.m. ET 11/21/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 3, 2022.
Debbie-Anne A. Reese,
Deputy Secretary.

[FR Doc. 2022-24440 Filed 11-8-22; 8:45 am]

BILLING CODE 6717-01-P